POSTAL REGULATORY COMMISSION

[Docket No. ACR2014; Order No. 2342]

Postal Service Performance Report and Performance Plan

AGENCY: Postal Regulatory Commission.

ACTION: Notice.

SUMMARY: On December 29, 2014, the Postal Service filed the FY 2014 Performance Report and FY 2015 Performance Plan with its FY 2014 Annual Compliance Report. This notice informs the public of the filing, invites public comment, and takes other administrative steps.

DATES: Comments are due: February 25, 2015. Reply Comments are due: March 4, 2015.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Background

III. Request for Comments

IV. Ordering Paragraphs

I. Introduction

Each fiscal year, the Postal Service prepares an annual performance plan (Performance Plan) and a report on program performance (Performance Report) as required under 39 U.S.C. 2803 and 2804. Pursuant to 39 U.S.C. 3652(g), on December 29, 2014, the Postal Service filed the FY 2014 Performance Report and FY 2015 Performance Plan with the Commission along with its FY 2014 Annual Compliance Report.¹

¹ The FY 2014 Performance Report and FY 2015 Performance Plan are included in the Postal Service's 2014 Annual Report to Congress. United States Postal Service, United States Postal Service 2014 Annual Report to Congress, at 37-45; see Library Reference USPS-FY14-17, December 29, 2014.

The Commission is required to evaluate whether the Postal Service has met the goals established in the FY 2014 Performance Report and FY 2015 Performance Plan. See 39 U.S.C. 3653(d). It may also provide recommendations to the Postal Service related to the protection or promotion of public policy objectives set out in title 39. Id.

II. Background

In past years, the Commission included its analysis of Performance Reports and Performance Plans in its Annual Compliance Determination (ACD).² In FY 2014, the Commission determined that its obligations under section 3653(d) are distinguishable from its ACD obligations under section 3653(b).³ Thus, in FY 2014, the Commission issued a separate report analyzing the Postal Service's FY 2013 Performance Report and FY 2014 Performance Plan. See id. That report provided an in-depth analysis of legal requirements, performance goals, and strategic initiatives.

² See, e.g., Docket No. ACR2012, Postal Regulatory Commission, Annual Compliance Determination Report Fiscal Year 2012 (Revised May 7, 2013), May 7, 2013, at 35-46.

³ Docket No. ACR2013, Postal Regulatory Commission, Review of Postal Service FY 2013 Performance Report and FY 2014 Performance Plan, July 7, 2014, at 3.

In FY 2015, the Commission will also analyze the FY 2014 Performance Report and FY 2015 Performance Plan in a separate report. To facilitate its review, the Commission is establishing a separate comment period for the FY 2014 Performance Report and FY 2015 Performance Plan. The Commission invites public comment to consider the following issues related to the FY 2014 Performance Report and FY 2015 Performance Plan:

• Did the Postal Service meet the goals established in the FY 2014 Performance Report and FY 2015 Performance Plan?

• Do the FY 2014 Performance Report and FY 2015 Performance Plan meet applicable statutory requirements, including 39 U.S.C. 2803 and 2804?

• What recommendations should the Commission provide to the Postal Service that relate to protecting or promoting public policy objectives in title 39?

• What is the role of strategic initiatives in the FY 2014 Performance Report and FY 2015 Performance Plan?

• What other matters are relevant to the Commission's analysis of the FY 2014 Performance Report and FY 2015 Performance Plan under 39 U.S.C. 3653(d)?

III. Request for Comments

Comments by interested persons are due no later than February 25, 2015. Reply comments are due no later than March 4, 2015. Pursuant to 39 U.S.C. 505, Kenneth R. Moeller is appointed to serve as Public Representative to represent the interests of the general public in this docket with respect to issues related to the Commission's analysis of the FY 2014 Performance Report and FY 2015 Performance Plan.

IV. Ordering Paragraphs

It is ordered:

1. The Commission invites public comment on the Postal Service's FY 2014 Performance Report and FY 2015 Performance Plan.

2. Pursuant to 39 U.S.C. 505, the Commission appoints Kenneth R. Moeller to serve as Public Representative to represent the interests of the general public in this proceeding with respect to issues related to the Commission's analysis of the FY 2014 Performance Report and FY 2015 Performance Plan.

3. Comments on the Postal Service's FY 2014 Performance Report and FY 2015 Performance Plan are due no later than February 25, 2015.

4. Reply comments are due no later than March 4, 2015.

5. The Secretary shall arrange for publication of this order in the Federal Register.

By the Commission.
Shoshana M. Grove,
Secretary.

[FR Doc. 2015-02420 Filed 2-5-15; 8:45 am]

BILLING CODE 7710-FW-P